DEPARTMENT OF COMMERCE

International Trade Administration

[A-570-979, C-570-980]

Crystalline Silicon Photovoltaic Cells, Whether or Not Assembled Into Modules, From the People's Republic of China: Final Results of Changed Circumstances Reviews, and Revocation of the Antidumping and Countervailing Duty Orders, in Part

AGENCY: Enforcement and Compliance, International Trade Administration, Department of Commerce.

SUMMARY: The U.S. Department of Commerce (Commerce) is issuing the final results of changed circumstances reviews (CCRs) of the antidumping duty (AD) and countervailing duty (CVD) orders on crystalline silicon photovoltaic (CSPV) cells, whether or not assembled into modules (solar cells), from the People's Republic of China (China) to revoke the orders, in part, with respect to certain off-grid CSPV panels.

DATES: Applicable December 19, 2025.

FOR FURTHER INFORMATION CONTACT: Maureen Shaheen, Acting Director, Office of Antidumping Policy, Enforcement and Compliance, International Trade Administration, U.S. Department of Commerce, 1401 Constitution Avenue NW, Washington, DC 20230; telephone: (202) 482-3004.

SUPPLEMENTARY INFORMATION:

Background

On December 7, 2012, Commerce published the Orders on solar cells from China.¹ On September 30, 2025, Commerce published the initiation and preliminary results of these CCRs, finding that revocation, in part, of the Orders, with respect to certain off-grid CSPV panels was warranted, pursuant to section 751(b)(1)(A) of the Tariff Act of 1930, as amended (the Act), and 19 CFR 351.216(b).² We also stated our intent to apply the partial revocation to unliquidated entries of merchandise subject to the CCRs that were entered or withdrawn from warehouse, for consumption, on or after January 1, 2024, for the CVD Order, and December 1, 2024, for the AD Order, and provided interested parties with the opportunity to comment on the Preliminary Results.³ On November 4 and 13, 2025, we received comments on the Preliminary Results from Nextpower LLC, formerly known as Nextracker LLC (Nextpower), and the American Alliance for Solar Manufacturing (the petitioner), respectively.⁴

¹ See Crystalline Silicon Photovoltaic Cells, Whether or Not Assembled Into Modules, from the People's Republic of China: Amended Final Determination of Sales at Less Than Fair Value, and Antidumping Duty Order, 77 FR 73018 (December 7, 2012) (AD Order); see also Crystalline Silicon Photovoltaic Cells, Whether or Not Assembled Into Modules, from the People's Republic of China: Countervailing Duty Order, 77 FR 73017 (December 7, 2012) (CVD Order) (collectively, Orders).

² See Crystalline Silicon Photovoltaic Cells, Whether or Not Assembled Into Modules, from the People's Republic of China: Initiation and Preliminary Results of Changed Circumstances Reviews and Intent to Revoke the Antidumping and Countervailing Duty Orders, in Part, 90 FR 46795 (September 30, 2025) (Preliminary Results).

³ Id., 90 FR at 46797.

⁴ See Nextpower's Letter, “Crystalline Silicon Photovoltaic Cells, Whether or Not Assembled Into Modules, from the People's Republic of China: Case Brief for Changed Circumstances Review,” dated November 4, 2025; and Petitioner's Letter,” Changed Circumstances Review Request of Crystalline Silicon Photovoltaic Cells, Whether or Not Assembled Into Modules, from the People's Republic of China: Case Brief,” dated November 13, 2025.

Due to the lapse in appropriations and Federal Government shutdown, on November 14, 2025, Commerce tolled all deadlines in administrative proceedings by 47 days.⁵ Additionally, due to a backlog of documents that were electronically filed via Enforcement and Compliance's Antidumping and Countervailing Duty Centralized Electronic Service System (ACCESS) during the Federal Government shutdown, on November 24, 2025, Commerce tolled all deadlines in administrative proceedings by an additional 21 days.⁶ Accordingly, the deadline for these final results is now January 21, 2026.

⁵ See Memorandum, “Deadlines Affected by the Shutdown of the Federal Government,” dated November 14, 2025.

⁶ See Memorandum, “Tolling of All Case Deadlines,” dated November 24, 2025.

Analysis of Comments Received

All issues raised in the case briefs filed by parties in this CCR are addressed in the Issues and Decision Memorandum ⁷ and listed in the appendix to this notice. The Issues and Decision Memorandum is a public document and is on file electronically via ACCESS. ACCESS is available to registered users at https://access.trade.gov. In addition, a complete version of the Issues and Decision Memorandum can be accessed at https://access.trade.gov/public/FRNoticesListLayout.aspx.

⁷ See Memorandum, “Crystalline Silicon Photovoltaic Cells, Whether or Not Assembled into Modules, from the People's Republic of China: Final Results of Changed Circumstances Reviews,” dated concurrently with, and hereby adopted by, this notice (Issues and Decision Memorandum).

Final Results of CCRs and Revocation of the Orders, in Part

In light of Nextpower's request, and the domestic interested parties' lack of interest in maintaining the Orders with respect to the products under consideration, Commerce continues to find, pursuant to sections 751(d)(1) and 782(h)(2) of the Act and 19 CFR 351.222(g), that changed circumstances exist that warrant revocation of the Orders, in part. No interested party opposed this partial revocation. Moreover, no parties provided other information or evidence that calls into question the partial revocation described in the Preliminary Results. Specifically, because producers accounting for substantially all the production of the domestic like product to which the Orders pertain have not expressed interest in maintaining the relief provided by the Orders with respect to certain off-grid CSPV panels, as described below, Commerce is revoking the Orders, in part, with respect to certain off-grid CSPV panels with the following physical characteristics:

Also excluded from the scope of these Orders are off-grid CSPV panels for dedicated powering of a single low-voltage device (60Vdc or less) that:

(A) Have a glass cover;

(B) Have an aluminum frame around the edges of each panel;

(C) Have a total power output of 140 watts or less per panel;

(D) Are of an elongated rectangular shape such that the long side is at least 3.5 times the length of the short side;

(E) Have a surface area of less than 8,200 cm2 per panel;

(F) Connect to device with 12-16 American Wire Gauge wires between 1200 mm and 1310 mm in length; and

(G) Do not include a built-in inverter.⁸

⁸ See Nextpower's Letter, “Crystalline Silicon Photovoltaic Cells, Whether or Not Assembled Into Modules, from the People's Republic of China: Request for Changed Circumstances Review,” dated June 27, 2025, at 6.

The scope description below includes this new exclusion.

Scope of the Orders

The merchandise covered by these Orders is crystalline silicon photovoltaic cells, and modules, laminates, and panels, consisting of crystalline silicon photovoltaic cells, whether or not partially or fully assembled into other products, including, but not limited to, modules, laminates, panels and building integrated materials.

These Orders covers crystalline silicon photovoltaic cells of thickness equal to or greater than 20 micrometers, having a p/n junction formed by any means, whether or not the cell has undergone other processing, including, but not limited to, cleaning, etching, coating, and/or addition of materials (including, but not limited to, metallization and conductor patterns) to collect and forward the electricity that is generated by the cell.

Merchandise under consideration may be described at the time of importation as parts for final finished products that are assembled after importation, including, but not limited to, modules, laminates, panels, building-integrated modules, building-integrated panels, or other finished goods kits. Such parts that otherwise meet the definition of merchandise under consideration are included in the scope of these Orders.

Modules, laminates, and panels produced in a third-country from cells produced in China are covered by these Orders; however, modules, laminates, and panels produced in China from cells produced in a third-country are not covered by these Orders.

Excluded from the scope of these Orders are thin film photovoltaic products produced from amorphous silicon (a-Si), cadmium telluride (CdTe), or copper indium gallium selenide (CIGS).

Also excluded from the scope of these Orders are crystalline silicon photovoltaic cells, not exceeding 10,000 mm2 in surface area, that are permanently integrated into a consumer good whose function is other than power generation and that consumes the electricity generated by the integrated crystalline silicon photovoltaic cell. Where more than one cell is permanently integrated into a consumer good, the surface area for purposes of this exclusion shall be the total combined surface area of all cells that are integrated into the consumer good.

Additionally, excluded from the scope of these Orders are panels with surface area from 3,450 mm2 to 33,782 mm2 with one black wire and one red wire (each of type 22 AWG or 24 AWG not more than 206 mm in length when measured from panel extrusion), and not exceeding 2.9 volts, 1.1 amps, and 3.19 watts. For the purposes of this exclusion, no panel shall contain an internal battery or external computer peripheral ports.

Also excluded from the scope of these Orders are:

(1) Off grid CSPV panels in rigid form with a glass cover, with the following characteristics:

(A) a total power output of 100 watts or less per panel;

(B) a maximum surface area of 8,000 cm² per panel;

(C) do not include a built-in inverter;

(D) must include a permanently connected wire that terminates in either an 8mm male barrel connector, or a two-port rectangular connector with two pins in square housings of different colors;

(E) must include visible parallel grid collector metallic wire lines every 1-4 millimeters across each solar cell; and

(F) must be in individual retail packaging (for purposes of this provision, retail packaging typically includes graphics, the product name, its description and/or features, and foam for transport); and

(2) Off grid CSPV panels without a glass cover, with the following characteristics:

(A) a total power output of 100 watts or less per panel;

(B) a maximum surface area of 8,000 cm² per panel;

(C) do not include a built-in inverter;

(D) must include visible parallel grid collector metallic wire lines every 1-4 millimeters across each solar cell; and

(E) each panel is

1. permanently integrated into a consumer good;

2. encased in a laminated material without stitching, or

3. has all of the following characteristics: (i) the panel is encased in sewn fabric with visible stitching, (ii) includes a mesh zippered storage pocket, and (iii) includes a permanently attached wire that terminates in a female USB-A connector.

In addition, the following CSPV panels are excluded from the scope of the Orders:

(1) Off-grid CSPV panels in rigid form with a glass cover, with each of the following physical characteristics, whether or not assembled into a fully completed off-grid hydropanel whose function is conversion of water vapor into liquid water:

(A) A total power output of no more than 80 watts per panel;

(B) A surface area of less than 5,000 cm² per panel;

(C) Do not include a built-in inverter;

(D) Do not have a frame around the edges of the panel;

(E) Include a clear glass back panel; and

(F) Must include a permanently connected wire that terminates in a two-port rectangular connector.

Additionally excluded from the scope of the Orders are off-grid small portable crystalline silicon photovoltaic panels, with or without a glass cover, with the following characteristics: (1) a total power output of 200 watts or less per panel; (2) a maximum surface area of 16,000 cm² per panel; (3) no built-in inverter; (4) an integrated handle or a handle attached to the package for ease of carry; (5) one or more integrated kickstands for easy installation or angle adjustment; and (6) a wire of not less than 3 meters either permanently connected or attached to the package that terminates in an 8mm diameter male barrel connector.

Also excluded from the scope of the Orders are off-grid crystalline silicon photovoltaic panels in rigid form with a glass cover, with each of the following physical characteristics, whether or not assembled into a fully completed off-grid hydropanel whose function is conversion of water vapor into liquid water:

(A) A total power output of no more than 180 watts per panel at 155 degrees Celsius;

(B) A surface area of less than 16,000 cm² per panel;

(C) Include a keep-out area of approximately 1,200 cm² around the edges of the panel that does not contain solar cells;

(D) Do not include a built-in inverter;

(E) Do not have a frame around the edges of the panel;

(F) Include a clear glass back panel;

(G) Must include a permanently connected wire that terminates in a two-port rounded rectangular, sealed connector;

(H) Include a thermistor installed into the permanently connected wire before the two-port connector; and

(I) Include exposed positive and negative terminals at opposite ends of the panel, not enclosed in a junction box.

Also excluded from the scope of the Orders are off-grid CSPV panels in rigid form, with or without a glass cover, permanently attached to an aluminum extrusion that is an integral component of an automation device that controls natural light, whether or not assembled into a fully completed automation device that controls natural light, with the following characteristics:

(1) A total power output of 20 watts or less per panel; (2) A maximum surface area of 1,000 cm² per panel; (3) Does not include a built-in inverter for powering third party devices.

Also excluded from the scope of these Orders are off-grid CSPV panels for dedicated powering of a single low-voltage device (60Vdc or less) that:

(A) Have a glass cover;

(B) Have an aluminum frame around the edges of each panel;

(C) Have a total power output of 140 watts or less per panel;

(D) Are of an elongated rectangular shape such that the long side is at least 3.5 times the length of the short side;

(E) Have a surface area of less than 8,200 cm2 per panel;

(F) Connect to device with 12-16 American Wire Gauge wires between 1200 mm and 1310 mm in length; and

(G) Do not include a built-in inverter

Merchandise covered by these Orders is currently classified in the Harmonized Tariff System of the United States (HTSUS) under subheadings 8501.71.0000, 8501.72.1000, 8501.72.2000, 8501.72.3000, 8501.72.9000, 8501.80.1000, 8501.80.2000, 8501.80.3000, 8501.80.9000, 8507.20.8010, 8507.20.8031, 8507.20.8041, 8507.20.8061, 8507.20.8091, 8541.42.0010, and 8541.43.0010. These HTSUS subheadings are provided for convenience and customs purposes; the written description of the scope of the Orders are dispositive.⁹

⁹ See Orders.

Application of the Final Results of the CCRs

In the Preliminary Results, we stated our intent that “we intend to apply the partial revocation to unliquidated entries of merchandise subject to the CCRs that were entered or withdrawn from warehouse, for consumption, on or after January 1, 2024, for the CVD Order and December 1, 2024, for the AD Order” because “our practice is to limit retroactive revocation to entries not covered by an ongoing administrative review.” ¹⁰ However, based on our review of the record, including comments received from interested parties regarding our Preliminary Results, and for the reasons explained in the Issues and Decision Memorandum, in these final results of CCRs, we determine that it is appropriate to apply the partial revocation to unliquidated entries of merchandise subject to the CCRs that were entered or withdrawn from warehouse, for consumption, on or after December 1, 2022, for the AD Order, and January 1, 2022, for the CVD Order. For further details, see the Issues and Decision Memorandum.

¹⁰ See Preliminary Results, 90 FR at 46797.

Instructions to U.S. Customs and Border Protection (CBP)

Because we determine that there are changed circumstances that warrant the revocation of the Orders, in part, we will instruct CBP to liquidate without regard to antidumping and countervailing duties, and to refund any estimated antidumping and countervailing duties deposited on all unliquidated entries of the merchandise entered, or withdrawn from warehouse, for consumption on or after December 1, 2022, for the AD Order, and January 1, 2022, for the CVD Order, that are covered by this partial revocation of the Orders. Commerce will also instruct CBP to discontinue the suspension of liquidation and the collection of cash deposits for estimated antidumping and countervailing duties for the product covered by the revocation.

Commerce intends to issue instructions to CBP no earlier than 35 days after the date of publication of these final results of CCRs in the Federal Register. If a timely summons is filed at the U.S. Court of International Trade, the instructions will direct CBP not to liquidate relevant entries until the time for parties to file a request for a statutory injunction has expired (i.e., within 90 days of publication).

Notification Regarding Administrative Protective Order (APO)

This notice serves as a final reminder to parties subject to an APO of their responsibility concerning the disposition of proprietary information disclosed under an APO in accordance with 19 CFR 351.305(a)(3). Timely written notification of the return/destruction of APO materials or conversion to a judicial protective order is hereby requested. Failure to comply with the regulations and terms of an APO is a sanctionable violation.

Notification to Interested Parties

We are issuing and publishing these final results of CCRs in accordance with sections 751(b) and 777(i) of the Act, and 19 CFR 351.216, 19 CFR 351.221(c)(3), and 19 CFR 351.222(g).

Dated: December 15, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Orders

IV. Changes Since the Preliminary Results

V. Discussion of the Issue

Comment: When Commerce Should Apply the Partial Revocation

VI. Recommendation

[FR Doc. 2025-23454 Filed 12-18-25; 8:45 am]

BILLING CODE 3510-DS-P